DEPARTMENT OF ENERGY

National Nuclear Security Administration

Extension of the Public Comment Period for the Draft Site-Wide Environmental Impact Statement for the Continued Operation of the Department of Energy/National Nuclear Security Administration Nevada National Security Site and Off-Site Locations in the State of Nevada

AGENCY: National Nuclear Security Administration, U.S. Department of Energy.

ACTION: Notice of extension of the public comment period.

SUMMARY: On July 29, 2011, the National Nuclear Security Administration (NNSA), a separately organized semi-autonomous agency within the U.S. Department of Energy (DOE), published a notice of availability of the Draft Site-Wide Environmental Impact Statement for the Continued Operation of the Department of Energy/National Nuclear Security Administration Nevada National Security Site and Off-Site Locations in the State of Nevada (Draft SWEIS, DOE/EIS-0426D). That notice stated that the public review and comment period would continue until October 27, 2011. NNSA has decided to extend the public comment period by 36 days through December 2, 2011.

ADDRESSES: The Draft SWEIS and its reference material are available for review on the NNSA Web site at: http://nnsa.energy.gov/nepa. Written comments on the Draft SWEIS should be submitted to Ms. Linda Cohn, SWEIS Document Manager, NNSA Nevada Site Office, U.S. Department of Energy, P.O. Box 98518, Las Vegas, Nevada 89193-8518. Comments may also be submitted by facsimile to 702-295-5300, by telephone at 1-877-781-6105, or on the Internet at http://nnsa.energy.gov/nepa. Please title correspondence “Draft SWEIS Comments.”

FOR FURTHER INFORMATION CONTACT: Requests for additional information on the Draft SWEIS, including requests for copies of the document, should be directed to Ms. Linda Cohn by contact methods shown above under ADDRESSES.

For general information regarding the DOE NEPA process, contact Ms. Carol M. Borgstrom, Director, Office of NEPA Policy and Compliance, GC-54, U.S. Department of Energy, 1000 Independence Ave., SW., Washington, DC 20585; by telephone at 202-586-4600 or leave a message at 1-800-472-2756; by electronic mail at askNEPA@hq.doe.gov; or by facsimile at 202-586-7031. Additional information regarding DOE NEPA activities is available on the Internet through the DOE NEPA Web site at http://nnsa.energy.gov/nepa.

SUPPLEMENTARY INFORMATION: The Draft SWEIS for the continued management and operation of the Nevada National Security Site (formerly known as the Nevada Test Site) and other NNSA-managed sites in Nevada, including the Remote Sensing Laboratory on Nellis Air Force Base, the North Las Vegas Facility, and the Tonopah Test Range on the U.S. Air Force Nevada Test and Training Range, analyzes the potential environmental impacts for three alternatives: No Action, Expanded Operations, and Reduced Operations. Each alternative comprises current and reasonably foreseeable activities at the NNSS and three offsite locations in the NNSA mission-associated programs in Nevada of (1) the National Security/Defense Mission, which includes the Stockpile Stewardship and Management, Nuclear Emergency Response, Nonproliferation and Counterterrorism, and Work for Others Programs; (2) the Environmental Management Mission, which includes the Waste Management and Environmental Restoration Programs; and (3) the Nondefense Mission, which includes the General Site Support and Infrastructure, Energy Conservation and Renewable Energy, and Other Research and Development Programs.

The NNSA Nevada Site Office held five public hearings to receive comments on the Draft Site-Wide Environmental Impact Statement for the Continued Operation of the Department of Energy/National Nuclear Security Administration Nevada National Security Site and Off-Site Locations in the State of Nevada (Draft SWEIS, DOE/EIS-0426D). In response to comments received prior to and at the public hearings, NNSA has decided to extend the public comment period. The original NNSA Notice of Availability (76 FR 45548) indicated that the public comment period would close on October 27, 2011. The comment period will now end on December 2, 2011. Comments received after this date will be considered to the extent practicable as the Final NNSS SWEIS is prepared.

Signed in Washington, DC, on October 17, 2011.
Thomas P. D'Agostino,
Administrator, National Nuclear Security Administration.

[FR Doc. 2011-27287 Filed 10-20-11; 8:45 am]

BILLING CODE P